DEPARTMENT OF EDUCATION

34 CFR Part 668

Program Integrity: Gainful Employment

AGENCY: Office of Postsecondary Education, Department of Education.

ACTION: Announcement of applicable dates.

SUMMARY: On January 6 and January 19, 2017, the Department announced dates by which institutions subject to the Department's gainful employment (GE) regulations must comply with certain provisions of the GE regulations. This document announces that the Department allows additional time, until July 1, 2017, for institutions to submit an alternate earnings appeal and to comply with the disclosure requirements in the GE regulations.

DATES: The Department is allowing additional time—until July 1, 2017—for institutions to comply with the specified provisions in the GE regulations, as discussed in the SUPPLEMENTARY INFORMATION section of this document.

FOR FURTHER INFORMATION CONTACT: John Kolotos, U.S. Department of Education, 400 Maryland Ave. NW., Room 6W240, Washington, DC 20202. Telephone: (202) 453-7646 or by email at: John.Kolotos@ed.gov.

SUPPLEMENTARY INFORMATION: To permit the Department's further review of the GE regulations and their implementation, the Department is allowing institutions additional time—until July 1, 2017—to—

(a) Submit an alternate earnings appeal under 34 CFR 668.406 with respect to a program's final debt-to-earnings rates issued on January 9, 2017; and

(b) Provide a disclosure template or a link thereto on a GE program's Web pages, include the disclosure template or link thereto in a GE program's promotional materials, and deliver the disclosure template to a GE program's prospective students, under 34 CFR 668.412.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature of this site, you can limit your search to documents published by the Department.

Dated: March 7, 2017.
Betsy DeVos,
Secretary of Education.

[FR Doc. 2017-04822 Filed 3-9-17; 8:45 am]

BILLING CODE 4000-01-P